DEPARTMENT OF COMMERCE

Foreign-Trade Zones Board

(Docket 41-2008)

Foreign-Trade Zone 7 - Mayaguez, Puerto Rico, Application for Subzone, Amgen Manufacturing Limited, (Biotechnology and Healthcare Products), Juncos, Puerto Rico

An application has been submitted to the Foreign-Trade Zones Board (the Board) by the Puerto Rico Industrial Development Company, grantee of FTZ 7, requesting special-purpose subzone status for the manufacture of biotechnology and healthcare products at the facility of Amgen Manufacturing Limited (Amgen), located in Juncos, Puerto Rico. The application was submitted pursuant to the provisions of the Foreign-Trade Zones Act, as amended (19 U.S.C. 81a-81u), and the regulations of the Board (15 CFR part 400). It was formally filed on June 19, 2008.

The Amgen facility (2,000 employees, 28 buildings with 1,900,718 square feet on 221 acres) is located at Road PR 31 Km. 24.6, in Juncos, Puerto Rico. The facility will be used to manufacture, test, package and warehouse Epogen®, (Epoetin Alfa), Neupogen® (Filgrastim), Aransep® (Darbepoetin Alfa), Enbrel® (Etanercept), Kineret® (Anakinra), and Neulasta® (Pegfilgrastim) (duty-free). Components and materials sourced from abroad (representing 2%% of the value of the finished product) include: vials, syringes, stoppers, plunger rods, partitions and dispenser packs (HTSUS duty rate ranges from duty-free to 2.7%%).

FTZ procedures would exempt Amgen from customs duty payments on the foreign components used in export production. The company anticipates that some 48 percent of the plant's shipments will be exported. On its domestic sales, Amgen could choose the duty-free rate during customs entry procedures that applies to finished biotechnology and healthcare products for the foreign inputs noted above. The request indicates that the savings from FTZ procedures would help improve the plant's international competitiveness.

In accordance with the Board's regulations, Elizabeth Whiteman of the FTZ staff is designated examiner to investigate the application and report to the Board.

Public comment is invited from interested parties. Submissions (original and 3 copies) shall be addressed to the Board's Executive Secretary at the address below. The closing period for their receipt is August 25, 2008. Rebuttal comments in response to material submitted during the foregoing period may be submitted during the subsequent 15-day period to September 9, 2008.

A copy of the application and accompanying exhibits will be available for public inspection at each of the following locations:

U.S. Department of Commerce Export Assistance Center, Tower II Suite 702, Road 165, Guaynabo, Puerto Rico 00968.

Office of the Executive Secretary, Foreign-Trade Zones Board, U.S. Department of Commerce, Room 2111, 1401 Constitution Ave. NW, Washington, DC 20230.

For further information, contact Elizabeth Whiteman at Elizabeth_Whiteman@ita.doc.gov or (202) 482-0473.

Dated: June 19, 2008.
Andrew McGilvray,
Executive Secretary.

[FR Doc. E8-14537 Filed 6-25-08; 8:45 am]

BILLING CODE 3510-DS-S